DEPARTMENT OF TRANSPORTATION

Federal Highway Administration

[Docket No. FHWA-2024-0026]

Emergency Temporary Closure of a Segment of Interstate 695, Including the Francis Scott Key Bridge, in Baltimore, Maryland; Deletion From the National Network

AGENCY: Federal Highway Administration (FHWA), Department of Transportation (DOT).

ACTION: Notice; request for comments.

SUMMARY: The Maryland Transportation Authority (MDTA) closed Interstate 695 (I-695) in both directions over the Patapsco River, which provides access to the Baltimore Harbor and the Port of Baltimore, on March 26, 2024, due to the collapse of the Francis Scott Key Bridge. The MDTA is the owner of the bridge. It is a modal administration under the Maryland Department of Transportation (MDOT). The MDTA is continuing the temporary closure of this segment of I-695 for an indefinite period of time until the damaged bridge can be reconstructed. The FHWA is providing notice in the Federal Register that the FHWA is approving an emergency deletion of this segment of I-695 from the National Network (NN), in accordance with applicable regulations, due to safety considerations and the emergency closure resulting from the bridge and other infrastructure damage, as discussed in this notice. The FHWA is also requesting comments from the public for 30 days on the alternate routes selected by MDTA due to the closure.

DATES: Comments must be received on or before June 7, 2024.

ADDRESSES: To ensure that you do not duplicate your docket submissions, please submit them by only one of the following means:

• Federal eRulemaking Portal: Go to www.regulations.gov and follow the online instructions for submitting comments.

• Mail: U.S. Department of Transportation, Docket Operations, 1200 New Jersey Avenue SE, Room W12-140, Washington, DC 20590.

• Hand Delivery or Courier: U.S. Department of Transportation, Docket Operations, West Building Ground Floor, Room W12-140, 1200 New Jersey Avenue SE, Washington, DC, between 9:00 a.m. and 5:00 p.m. ET, except Federal holidays.

Instructions: You must include the agency name and docket number [FHWA-2024-0026] at the beginning of your comments. All comments received will be posted without change to www.regulations.gov, including any personal information provided.

FOR FURTHER INFORMATION CONTACT: Michael Latuszek, FHWA Office of Operations, 573-616-0415, michael.latuszek@dot.gov; William Winne, Office of Chief Counsel, 202-366-0791, william.winne@dot.gov, FHWA, 1200 New Jersey Avenue SE., Washington, DC 20590; or Valeriya Remezova, FHWA Maryland Division, 410-779-7130, valeriya.remezova@dot.gov.

SUPPLEMENTARY INFORMATION:

Electronic Access and Filing

This document and all comments received may be viewed online through the Federal eRulemaking portal at www.regulations.gov. The website is available 24 hours each day, 365 days each year. An electronic copy of this document may also be downloaded by accessing the Office of the Federal Register's website at www.federalregister.gov and the U.S. Government Publishing Office's website at www.govinfo.gov.

Background

The MDTA closed I-695 in both directions over the Patapsco River,¹ which provides access to the Baltimore Harbor and the Port of Baltimore, on March 26, 2024, due to the collapse of the Francis Scott Key Bridge. The MDTA is the owner of the bridge. It is a modal administration under the MDOT.

¹ The portion of I-695 that includes the Francis Scott Key Bridge is a part of the National Highway System (NHS) and was officially incorporated into the Interstate System effective April 29, 2024. In Appendix A to title 23 of the Code of Federal Regulations (CFR) part 658, this route is listed as MD 695 from I-695/MD 3 Glenn Burnie to I-95/695 Kenwood.

The FHWA is providing notice in the Federal Register that the MDTA is continuing the temporary closure of this segment of I-695 in both directions for an indefinite period of time until the damaged bridge can be reconstructed. The FHWA is requesting comments from the public for 30 days on the alternate routes selected by MDTA due to the closure.

The FHWA is responsible for enforcing the Federal regulations applicable to the NN that can safely and efficiently accommodate the large vehicles authorized by provisions of the Surface Transportation Assistance Act of 1982, as amended and codified at Title 49 of the United States Code (U.S.C.) Chapter 311; designated in accordance with 23 CFR part 658 (Truck Size and Weight, Route Designations—Length, Width and Weight Limitations); and listed in Appendix A to 23 CFR part 658. Under 23 CFR 658.11 (Additions, deletions, exceptions, and restrictions), FHWA may approve deletions of, or use restrictions on, the Interstate System or other NN route based upon specified justification criteria in section 658.11(d)(2). The FHWA is authorized to delete any route from the NN on an emergency basis, based on safety considerations pursuant to 23 CFR 658.11(e), which also requires publishing this notice in the Federal Register for comment.

At approximately 1:30 a.m. on March 26, 2024, a cargo ship leaving the Port of Baltimore struck the Francis Scott Key Bridge, which is a component of the segment of I-695 over the Patapsco River. Shortly thereafter, the bridge collapsed. The overall bridge is approximately 8,636 feet in length (or roughly 1.6 miles). The main span is 1,200 feet. The Average Daily Traffic in 2023 was approximately 34,121 vehicles.

As a result, I-695 Outer Loop was closed at Quarantine Road (exit 1), and the I-695 Inner Loop was closed at MD 157/Peninsula Expressway (exit 43); however, the situation is evolving. Maryland State transportation officials are providing public information via their web pages, which are listed at the end of this notice, regarding current closures and recommended detours. Although the recommended detours have been evolving since the onset of the incident, currently traffic on I-695 is being rerouted as follows:

Alternate routes that cross the Baltimore Harbor (Harbor Crossings) are I-95, the Fort McHenry Tunnel, or I-895, the Baltimore Harbor Tunnel. The I-95 Fort McHenry Tunnel prohibits vehicles greater than 14′6″ in height and 11′0″ in width. The I-895 Baltimore Harbor Tunnel prohibits vehicles greater than 13′6″ in height or 8′0″ in width. Both tunnels prohibit vehicles transporting hazardous materials. This includes vehicles carrying bottled propane gas in excess of 10 pounds per container (maximum of 10 containers), bulk gasoline, explosives, or significant amounts of radioactive materials. Vehicles prohibited from Harbor Crossings, including vehicles transporting hazardous materials and vehicles over 14′6″ high or 11′0″ wide, should use the western section of I-695 around the tunnels as an alternative route.

A detour message is being provided on overhead changeable message signs indicating the suggested use of alternate routes. Portable signs are being deployed for local roads. The Port of Baltimore is still open for truck transactions. Vessel (waterway) traffic into and out of the Port of Baltimore was suspended on March 26, 2024, until further notice (see MDTA websites and newsfeeds, listed below, for current status).

For up-to-date information on traffic advisories, commercial truck and hazardous material routing, and the bridge replacement, the MDTA and MDOT established a website at https://mdta.maryland.gov/keybridgenews. In addition, MDOT provides traveler information via “Maryland 511” at https://chart.maryland.gov/.

Comments are invited on all alternate routes.

Authority: 23 U.S.C. 127 and 315; 49 U.S.C. 31111, 31112, and 31114; 23 CFR part 658.

Shailen P. Bhatt,
Administrator, Federal Highway Administration.

[FR Doc. 2024-10025 Filed 5-7-24; 8:45 am]

BILLING CODE 4910-22-P